DEPARTMENT OF JUSTICE

Notice of Lodging of Proposed Bankruptcy Settlement Agreement Under the Comprehensive Environmental Response, Compensation and Liability Act (CERCLA)

On June 12, 2019, the Debtors lodged a proposed Bankruptcy Settlement Agreement with the United States Bankruptcy Court for the Western District of North Carolina in the bankruptcy proceeding of Kaiser Gypsum Company, Inc. and Hanson Permanente Cement, Inc. (collectively, the “Debtors”), jointly administered at Case No. 16-31602, [Docket No. 1719]. A fully executed version of the proposed Bankruptcy Settlement Agreement was lodged on June 17, 2019, [Docket No. 1735].

The proposed Bankruptcy Settlement Agreement resolves certain claims on behalf of the United States Environmental Protection Agency asserted against the Debtors under the Comprehensive Environmental Response, Compensation and Liability Act (“CERCLA”) for costs incurred and to be incurred by the United States in connection with 5 parcels of property formerly owned and operated by the Debtors. Under the proposed Bankruptcy Settlement Agreement EPA will have an allowed general unsecured claim of $3.25 million for the Lower Duwamish Waterway Site (“LDW Site”) in Seattle, Washington. In addition, the proposed Bankruptcy Settlement resolves Natural Resource Damage claims against Debtors related to the Lower Duwamish River, on behalf of the United States Department of Interior (“DOI”) and the National Oceanic and Atmospheric Administration (“NOAA”), for an allowed general unsecured claim of $1 million.

The Settlement Agreement includes certain covenants not to sue under Sections 106 and 107 of CERCLA, 42 U.S.C. 9606 or 9607, with respect to the LDW Site. DOI and NOAA are providing a covenant not to sue under Section 107 of CERCLA, 42 U.S.C. 9607 with respect to the Lower Duwamish River.

The publication of this notice opens a period for public comment on the Bankruptcy Settlement Agreement. Comments should be addressed to the Assistant Attorney General, Environment and Natural Resources Division, and should refer to In re Kaiser Gypsum Company, Inc., D.J. Ref. No. 90-11-3-11737 and 90-11-3-11737/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Bankruptcy Settlement Agreement may be examined and downloaded at this Justice Department website: https://www.justice.gov/enrd/consent-decrees. We will provide a paper copy of the Bankruptcy Settlement Agreement upon written request and payment of reproduction costs. Please mail your request and payment to: Consent Decree Library, U.S. DOJ—ENRD, P.O. Box 7611, Washington, DC 20044-7611.

Please enclose a check or money order for $8.50 (25 cents per page reproduction cost) payable to the United States Treasury.

Susan M. Akers,
Assistant Section Chief, Environmental Enforcement Section, Environment and Natural Resources Division.

[FR Doc. 2019-13165 Filed 6-19-19; 8:45 am]

BILLING CODE 4410-15-P